DEPARTMENT OF COMMERCE

National Oceanic and Atmospheric Administration

[I.D. 111402B]

Fisheries of the Northeastern United States; Atlantic Surf Clam and Ocean Quahog Fisheries; Notice that Vendor Will Provide Year 2003 Cage Tags

AGENCY: National Marine Fisheries Service (NMFS), National Oceanic and Atmospheric Administration (NOAA), Commerce.

ACTION: Notice of vendor to provide fishing year 2003 cage tags.

SUMMARY: NMFS informs surf clam and ocean quahog allocation owners that they are required to purchase their year 2003 cage tags from a vendor. The intent of this notice is to comply with regulations for the surfclam and ocean quahog fisheries and to promote efficient distribution of cage tags.

ADDRESSES: Written inquiries may be sent to Douglas W. Christel at: National Marine Fisheries Service, Northeast Regional Office, One Blackburn Drive, Gloucester, MA 01930-3799.

FOR FURTHER INFORMATION CONTACT: Douglas W. Christel, Fishery Management Specialist, (978) 281-9141; fax 978-281-9135; e-mail Douglas.Christel@noaa.gov.

SUPPLEMENTARY INFORMATION: The Federal Atlantic surf clam and ocean quahog fisheries regulations at 50 CFR 648.75(b) authorize the Regional Administrator, Northeast Region, NMFS, to specify in the Federal Register a vendor from whom cage tags, required under the Atlantic Surf Clam and Ocean Quahog Fishery Management Plan, shall be purchased. Notice is hereby given that National Band and Tag Company of Newport, KY, is the authorized vendor of cage tags required for the fishing year 2003 Federal surf clam and ocean quahog fisheries. Detailed instructions for purchasing these cage tags will be provided in a letter to allocation owners in these fisheries within the next several weeks.

Authority: 16 U.S.C. 1801 et. seq.

Dated: November 20, 2002.
Richard W. Surdi,
Acting Director, Office of Sustainable Fisheries, National Marine Fisheries Service.

[FR Doc. 02-29896 Filed 11-22-02; 8:45 am]

BILLING CODE 3510-22-S